DEPARTMENT OF LABOR

Office of the Secretary

Submission for OMB Review; Comment Request

August 29, 2002.

The Department of Labor (DOL) has submitted the following public information collection request (ICR) to the Office of Management and Budget (OMB) for review and approval in accordance with the Paperwork Reduction of 1995 (Pub. L. 104-13, 44 U.S.C. Chapter 35). A copy of this ICR, with applicable supporting documentation, may be obtained by calling the Department of Labor. To obtain documentation contact Darrin King on 202-693-4129 or e-mail: King-Darrin@dol.gov.

Comments should be sent to Office of Information and Regulatory Affairs, Attn: OMB Desk Officer for OSHA, Office of Management and Budget, Room 10235, Washington, DC 20503 (202-395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Occupational Safety and Health Administration (OSHA).

Type of Review: Extension of a currently approved collection.

Title: Permit-Required Confined Spaces.

OMB Number: 1218-0203.

Affected Public: Business or other for-profit; Not-for-profit institutions; State, Local, or Tribal Government; and Federal Government.

Frequency: On occasion.

Type of Response: Recordkeeping and Third-party disclosure.

Number of Respondents: 4,844,849.

Requirement | Annual responses | Average responses time (hours) | Total annual burden hours
Preparation of “Danger-Permit Required Confined Space” Sign | 9,690 | 0.08 | 775
Preparation of “a written permit space entry” program | 11,943 | 16.00 | 191,088
Documentation of determination and supporting data required for entries using alternative procedures | 2,700,000 | 0.25 | 675,000
Written certification for alternative procedures | 2,700,000 | 0.08 | 216,000
Written certification that all hazards have been eliminated (reclassification of a permit space) | 200,000 | 0.08 | 16,000
Written entry permits | 1,900,000 | 0.25 | 475,000
Certification of training—existing employees | 1,600,000 | 0.05 | 80,000
Certification of training—new/retrained employees | 160,000 | 0.08 | 12,800
Totals | 9,281,633 |  | 1,666,663

Total Annualized Capital/Startup Costs: $0.

Total Annual Costs (operating/maintaining systems or purchasing services): $0.

Description: The Standard on Permit-Required Confined Spaces (29 CFR 1910.146) specifies a number of collection of information requirements. The collections of information are used by employers and employees whenever entry is made into permit-required confined spaces. The following sections describe who uses the information collected under each requirement, as well as how they use it. The purpose of the information is to insure that employers systematically evaluate the dangers in permit spaces before entry is attempted and to insure that adequate measures are taken to make the spaces safe for entry. In addition, the information is needed to determine, during an OSHA inspection by a compliance safety and health officer, if employers are in compliance with the standard.

Section 1910.146(c)(2) requires the employer to post danger signs to inform exposed employees of the existence and location of and the danger posed by permit spaces.

Section 1910.146(c)(4) requires the employer to develop and implement a written permit space program if the employer decides that its employees will enter permit spaces. The written program is to be made available for inspection by employees and their authorized representatives. Section 1910.146(d) provides the employer with the requirements of a permit-required confined space program (permit space program) required under this paragraph.

Section 1910.146(c)(5)(i)(E) requires that the determinations and supporting data required by paragraphs (c)(5)(i)(A), (c)(5)(i)(B), and (c)(5)(i)(C) of this section are documented by the employer and are made available to each employee who enters a permit space or to that employee's authorized representative.

Under paragraph (c)(5)(ii)(H) of 1910.146, the employer is required to verify that the space is safe for entry and that the pre-entry measures required by paragraph (c)(5)(ii) of this section have been taken, through a written certification that contains the date, the location of the space, and the signature of the person providing the certification. The certification is to be made before entry and is required to be made available to each employee entering the space or to that employee's authorized representative.

Section 1910.146(c)(7)(iii) requires the employer to document the basis for determining that all hazards in a permit space have been eliminated, through a certification that contains the date, the location of the space, and the signature of the person making the determination. The certification is to be made available to each employee entering the space or to that employee's authorized representative.

Section 1910.146(e) requires the employer to document the completion of measures required by paragraph (d)(3) by preparing an entry permit before employee entry is authorized. Paragraph (e)(3) requires that the employer make the completed permit available at the time of entry to all authorized entrants by posting the permit at the entry portal or by any other equally effective means, so that the entrants can confirm that the pre-entry preparations have been completed. Paragraph (e)(6) requires the employer to retain each canceled entry permit for at least one year.

Section 1910.146(g)(4) requires that the employer certify that the training required by paragraphs (g)(1) through (g)(3) has been accomplished by preparing a written certification record.

Ira L. Mills,
Department Clearance Officer.

[FR Doc. 02-22694 Filed 9-5-02; 8:45 am]

BILLING CODE 4510-26-M